DEPARTMENT OF ENERGY

Federal Energy Regulatory Commission

Combined Notice of Filings #1

Take notice that the Commission received the following electric rate filings:

Docket Numbers: ER18-502-001.

Applicants: Midcontinent Independent System Operator, Inc.

Description: Tariff Amendment: 2018-03-30_Deficiency Response to Network Resource Designation Improvement to be effective 3/1/2018.

Filed Date: 3/30/18.

Accession Number: 20180330-5265.

Comments Due: 5 p.m. ET 4/20/18.

Docket Numbers: ER18-1262-000.

Applicants: Midcontinent Independent System Operator, Inc.

Description: § 205(d) Rate Filing: 2018-03-30_Use of Post Reserve Deployment Constraints to be effective 6/1/2018.

Filed Date: 3/30/18.

Accession Number: 20180330-5280.

Comments Due: 5 p.m. ET 4/20/18.

Docket Numbers: ER18-1263-000.

Applicants: Pacific Gas and Electric Company.

Description: § 205(d) Rate Filing: Amendment No. 1 to Westside Power Authority IA and WDT SA (SA 15) to be effective 6/1/2018.

Filed Date: 3/30/18.

Accession Number: 20180330-5282.

Comments Due: 5 p.m. ET 4/20/18.

Docket Numbers: ER18-1264-000.

Applicants: Westar Energy, Inc.

Description: § 205(d) Rate Filing: MPS Electric Interconnection Agreement to be effective 6/1/2018.

Filed Date: 3/30/18.

Accession Number: 20180330-5284.

Comments Due: 5 p.m. ET 4/20/18.

Docket Numbers: ER18-1265-000.

Applicants: Arizona Public Service Company.

Description: § 205(d) Rate Filing: Service Agreement No. 363, Transmission Service Agreement with CSE to be effective 3/1/2018.

Filed Date: 3/30/18.

Accession Number: 20180330-5286.

Comments Due: 5 p.m. ET 4/20/18.

Docket Numbers: ER18-1266-000.

Applicants: Moxie Freedom LLC.

Description: Baseline eTariff Filing: Reactive Power Tariff to be effective 5/1/2018.

Filed Date: 3/30/18.

Accession Number: 20180330-5289.

Comments Due: 5 p.m. ET 4/20/18.

Docket Numbers: ER18-1267-000.

Applicants: South Central MCN LLC.

Description: Baseline eTariff Filing: South Central MCM OATT Tariff Filing to be effective 3/31/2018.

Filed Date: 3/30/18.

Accession Number: 20180330-5301.

Comments Due: 5 p.m. ET 4/20/18.

Docket Numbers: ER18-1268-000.

Applicants: Southwest Power Pool, Inc.

Description: § 205(d) Rate Filing: Tariff Revisions to Implement a Set of Resource Adequacy Policies to be effective 7/1/2018.

Filed Date: 3/30/18.

Accession Number: 20180330-5305.

Comments Due: 5 p.m. ET 4/20/18.

Docket Numbers: ER18-1269-000.

Applicants: Louisville Gas and Electric Company.

Description: § 205(d) Rate Filing: Revisions to LGE and KU TCA RS No. 507 to be effective 6/4/2018.

Filed Date: 4/2/18.

Accession Number: 20180402-5104.

Comments Due: 5 p.m. ET 4/23/18.

Docket Numbers: ER18-1270-000.

Applicants: West Penn Power Company, PJM Interconnection, L.L.C.

Description: § 205(d) Rate Filing: West Penn Power Company submits Interconnection Agreement No. 4161 to be effective 6/1/2018.

Filed Date: 4/2/18.

Accession Number: 20180402-5105.

Comments Due: 5 p.m. ET 4/23/18.

Docket Numbers: ER18-1271-000.

Applicants: Jersey Central Power & Light Company, PJM Interconnection, L.L.C.

Description: § 205(d) Rate Filing: JCP&L submits Interconnection Agreement SA No. 4920 to be effective 6/1/2018.

Filed Date: 4/2/18.

Accession Number: 20180402-5119.

Comments Due: 5 p.m. ET 4/23/18.

Docket Numbers: ER18-1272-000.

Applicants: Mid-Atlantic Interstate Transmission, LLC, PJM Interconnection, L.L.C.

Description: § 205(d) Rate Filing: MAIT submits Operating and Interconnection Agreement SA No. 4928 to be effective 6/1/2018.

Filed Date: 4/2/18.

Accession Number: 20180402-5124.

Comments Due: 5 p.m. ET 4/23/18.

Docket Numbers: ER18-1273-000.

Applicants: Louisville Gas and Electric Company.

Description: § 205(d) Rate Filing: Amd LGE and KU PSSA RS No. 508 to be effective 6/4/2018.

Filed Date: 4/2/18.

Accession Number: 20180402-5125.

Comments Due: 5 p.m. ET 4/23/18.

Docket Numbers: ER18-1274-000.

Applicants: Duke Energy Ohio, Inc., Duke Energy Kentucky, Inc., PJM Interconnection, L.L.C.

Description: § 205(d) Rate Filing: DEOK submits revisions to OATT Attachments H-22A and H-22B to be effective 6/1/2018.

Filed Date: 4/2/18.

Accession Number: 20180402-5140.

Comments Due: 5 p.m. ET 4/23/18.

Docket Numbers: ER18-1275-000.

Applicants: Mid-Atlantic Interstate Transmission, LLC, PJM Interconnection, L.L.C.

Description: § 205(d) Rate Filing: MAIT submits Operating and Interconnection Agreement SA No. 4929 to be effective 6/1/2018.

Filed Date: 4/2/18.

Accession Number: 20180402-5141.

Comments Due: 5 p.m. ET 4/23/18.

Docket Numbers: ER18-1276-000.

Applicants: Kentucky Utilities Company.

Description: § 205(d) Rate Filing: KU Concurrence to PSSA LGE and KU Joint RS FERC No. 508 to be effective6/4/2018.

Filed Date: 4/2/18.

Accession Number: 20180402-5142.

Comments Due: 5 p.m. ET 4/23/18.

Docket Numbers: ER18-1277-000.

Applicants: Southwestern Public Service Company.

Description: § 205(d) Rate Filing: GSEC RPSA Table 3 Revision 0.2.0 to be effective 12/31/2017.

Filed Date: 4/2/18.

Accession Number: 20180402-5147.

Comments Due: 5 p.m. ET 4/23/18.

Docket Numbers: ER18-1278-000.

Applicants: Rausch Creek Generation, LLC.

Description: § 205(d) Rate Filing: MBRA Tariff to be effective 2/28/2018.

Filed Date: 4/2/18.

Accession Number: 20180402-5181.

Comments Due: 5 p.m. ET 4/23/18.

Docket Numbers: ER18-1279-000.

Applicants: PJM Interconnection, L.L.C.

Description: § 205(d) Rate Filing: Amendment to WMPA SA No. 3355; Queue No. W3-044 to be effective2/4/2014.

Filed Date: 4/2/18.

Accession Number: 20180402-5182.

Comments Due: 5 p.m. ET 4/23/18.

Docket Numbers: ER18-1280-000.

Applicants: Sierra Pacific Power Company.

Description: § 205(d) Rate Filing: SPPC RS 73 Concurrence to PG&E RS367 to be effective 4/1/2018.

Filed Date: 4/2/18.

Accession Number: 20180402-5183.

Comments Due: 5 p.m. ET 4/23/18.

Docket Numbers: ER18-1281-000.

Applicants: PJM Interconnection, L.L.C.

Description: § 205(d) Rate Filing: Amendment to WMPA SA No. 3183; Queue No. W3-029 to be effective11/10/2014.

Filed Date: 4/2/18.

Accession Number: 20180402-5188.

Comments Due: 5 p.m. ET 4/23/18.

Docket Numbers: ER18-1282-000.

Applicants: Alabama Power Company.

Description: § 205(d) Rate Filing: Raven Solar Development (Taylor Solar) LGIA Filing to be effective 3/23/2018.

Filed Date: 4/2/18.

Accession Number: 20180402-5192.

Comments Due: 5 p.m. ET 4/23/18.

Docket Numbers: ER18-1283-000.

Applicants: Alabama Power Company.

Description: § 205(d) Rate Filing: Raven Solar Development (Wilcox Solar) LGIA Filing to be effective3/23/2018.

Filed Date: 4/2/18.

Accession Number: 20180402-5194.

Comments Due: 5 p.m. ET 4/23/18.

Docket Numbers: ER18-1284-000.

Applicants: Michigan Electric Transmission Company, LLC.

Description: § 205(d) Rate Filing: Cancellation of A&R Letter Agreement for Short Term O&M with the HBPW to be effective 3/9/2018.

Filed Date: 4/2/18.

Accession Number: 20180402-5209.

Comments Due: 5 p.m. ET 4/23/18.

Docket Numbers: ER18-1285-000.

Applicants: RE Gaskell West 1 LLC.

Description: § 205(d) Rate Filing: RE Gaskell West 1 Market Based Rate Tariff Amendment to be effective 4/3/2018.

Filed Date: 4/2/18.

Accession Number: 20180402-5281.

Comments Due: 5 p.m. ET 4/23/18.

Take notice that the Commission received the following qualifying facility filings:

Docket Numbers: QF18-1006-000.

Applicants: Whiting Clean Energy, Inc.

Description: Form 556 of Whiting Clean Energy, Inc.

Filed Date: 3/29/18.

Accession Number: 20180329-5379.

Comments Due: Non Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2018.
Nathaniel J. Davis, Sr.,
Deputy Secretary.

[FR Doc. 2018-07019 Filed 4-5-18; 8:45 am]

BILLING CODE 6717-01-P